DEPARTMENT OF ENERGY

National Definition for a Zero Emissions Building: Part 1 Operating Emissions Version 1.00m Draft Criteria; Reopening of Public Comment Period

AGENCY: Office of Energy Efficiency and Renewable Energy, Department of Energy.

ACTION: Request for information; reopening of public comment period.

SUMMARY: On January 9, 2024, the U.S. Department of Energy (DOE) published in the Federal Register a Request for Information (RFI) regarding the creation of a standardized, verifiable basis for defining a zero emissions building by the White House Office of Domestic Climate Policy (Climate Policy Office), through DOE. The RFI provided for the submission of written comments by February 5, 2024. This notice announces a reopening of the public comment period for submitting comments in response to the RFI through March 6, 2024.

DATES: The comment period for the RFI published on January 9, 2024 (89 FR 1086) is reopened. DOE will accept comments, data, and information regarding this RFI received no later than March 6, 2024.

ADDRESSES: Responses to this RFI must be submitted electronically at https://forms.office.com/g/Y0Ss3UFdL3.

FOR FURTHER INFORMATION CONTACT: Hayes Jones, U.S. Department of Energy, Office of Energy Efficiency and Renewable Energy (EERE), Building Technologies Office, Commercial Buildings Integration, (202) 586-8873, Hayes.Jones@ee.doe.gov.

SUPPLEMENTARY INFORMATION: On January 9, 2024, DOE published in the Federal Register a request for information (RFI) regarding the creation of a standardized, verifiable basis for defining a zero emissions building by the Climate Policy Office, through DOE. The RFI does not pertain to a rulemaking action. In addition to other net-zero emissions, economy-wide goals by 2050, within the building sector, the Biden-Harris Administration has set the goal to make zero emissions resilient new construction and retrofits comment practice by 2030. Accomplishing these goals will require increasing efficiency and expanding clean energy capacity. Zero emissions buildings will plug into a grid that is rapidly becoming cleaner.

The American Gas Association, American Public Gas Association, and National Propane Gas Association (“Joint Requesters”) have requested a 30-day extension of the comment period to allow additional time for preparation of their comments. The Joint Requesters explain that they provide the energy needed to fuel residential, commercial, and industrial buildings and are thus stakeholders in this proceeding. The Joint Requesters explained that they need additional time to develop comments that sufficiently analyze the impacts of the proposed definition and because limited staff available during the comment period would make it difficult to develop comments in response to the RFI. Similarly, the National Association of Home Builders requested an extension of the comment period because of staffing limitations and concerns over the definition for which they would like additional time to provide feedback.

DOE has determined that reopening the public comment period is appropriate based on the foregoing reasons. DOE will consider any comments received by 11:59 p.m. (Eastern Standard Time) of March 6, 2024, and deems any comments received by that time to be timely submitted.

Signing Authority

This document of the Department of Energy was signed on February 8, 2024, by Jeffrey Marootian, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on February 13, 2024.
Treena V. Garrett,
Federal Register Liaison Officer, U.S. Department of Energy.

[FR Doc. 2024-03285 Filed 2-15-24; 8:45 am]

BILLING CODE 6450-01-P